DEPARTMENT OF TRANSPORTATION

Federal Aviation Administration

14 CFR Part 71

[Docket No. FAA-2013-0016; Airspace Docket No. 12-ASO-33]

RIN 2120-AA66

Proposed Modification and Revocation of Air Traffic Service Routes; Jackson, MS

AGENCY: Federal Aviation Administration (FAA), DOT.

ACTION: Notice of proposed rulemaking (NPRM).

SUMMARY: This action proposes to modify two jet routes and seven VOR Federal airways; and remove two VOR Federal airways in the vicinity of Jackson, MS. The FAA is proposing this action due to the scheduled decommissioning of the Jackson, MS, VORTAC, and the commissioning of the Magnolia, MS, VORTAC navigation aids.

DATES: Comments must be received on or before April 1, 2013.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-0016 and Airspace Docket No. 12-ASO-33 at the beginning of your comments. You may also submit comments through the Internet at http://www.regulations.gov.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-0016 and Airspace Docket No. 12-ASO-33) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2013-0016 and Airspace Docket No. 12-ASO-33.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Persons interested in being placed on a mailing list for future NPRM's should contact the FAA's Office of Rulemaking, (202) 267-9677, for a copy of Advisory Circular No. 11-2A, Notice of Proposed Rulemaking Distribution System, which describes the application procedure.

Background

The Jackson, MS, VORTAC will be permanently decommissioned in 2013. The new Magnolia, MS, VORTAC is being constructed on the property of Bruce Campbell Field Airport in Madison, MS, to replace the Jackson VORTAC. The Magnolia VORTAC site is approximately 5.5 NM southeast of the Jackson VORTAC location. The Magnolia VORTAC is scheduled for commissioning concurrent with the shutdown of the Jackson VORTAC. This proposal amends the affected route descriptions due to the VORTAC changes.

The Proposal

The FAA is proposing an amendment to Title 14, Code of Federal Regulations (14 CFR) part 71 to modify two jet routes and seven VOR Federal airways; and cancel two VOR Federal airways in the vicinity of Jackson, MS. Specifically, the following changes are proposed:

Jet Route J-4 would be amended by removing “Jackson, MS” from the description and inserting “Magnolia, MS” in its place.

Jet Route J-20 would be amended by removing “Jackson, MS” from the description and inserting “Magnolia, MS” in its place. Also, the J-20 description in FAA Order 7400.9 contains an editorial error whereby “Montgomery, AL” is listed before “Meridian, MS” instead of following it. This action would correct the description by moving “Montgomery, AL” to follow “Meridian, MS” to match its proper geographic position along the route. It should be noted that this editorial error appears only in the route description in Order 7400.9. J-20 is correct in the NAS database and on IFR Enroute High Altitude chart H-6.

VOR Federal Airways V-9 and V-11 would be amended by removing “Jackson, MS” and inserting “Magnolia, MS” and by inserting radial intersections using the new Magnolia VORTAC.

VOR Federal Airway V-18 would be modified by removing “Jackson, MS” and inserting “Magnolia, MS” in its place and by correcting the spelling of “Talladega” in the route description listed in FAA Order 7400.9.

VOR Federal Airway V-74 would be modified so that the last route segment proceeds from the Greenville, MS, VOR/DME direct to the new Magnolia VORTAC instead of the Jackson VORTAC.

VOR Federal Airway V-245 would amended by removing “Jackson, MS” and substituting “Magnolia, MS,” in the description.

Currently, V-417 extends from Monroe, LA, to Charleston, SC. This action would cancel the portion of V-417 that lies between Monroe, LA, and Meridian, MS. Between those two points, V-417 serves as an alternate airway to V-18. However, V-18 provides direct, more efficient routing between Monroe and Meridian, while V-417 includes two doglegs to the south of V-18, resulting in additional flying miles between Monroe and Meridian. The V-417 segments between Monroe and Meridian have been deemed obsolete and of little value to the National Airspace System (NAS), therefore, V-417 would be amended to begin at Meridian and proceed along the current route to Charleston.

V-427 would be removed. V-427 currently extends between Monroe, LA and Jackson, MS. Similar to V-417 (above) V-427 also serves as an alternate airway to V-18, but to the north side of V-18. Since V-18 provides a direct and more efficient route between Monroe, LA, and the Jackson, MS/Magnolia, MS, area, the FAA has determined that V-427 is obsolete and of little value to the NAS.

V-555 currently extends between Picayune, MS, and Sidon, MS, and serves as an alternate route to the east of V-9, between McComb, MS, and Sidon. Since V-9 provides direct, more efficient routing between McComb and Sidon, the FAA is proposing to modify V-555 by removing the segment between McComb and Sidon, which has been determined to be of minimal value to the NAS. As a result, the modified V-555 would only extend between Picayune and McComb.

V-557 currently extends between McComb, MS and Sidon, MS and is an alternate route to the west of V-9. However, V-9 provides direct, more efficient routing between those points; therefore, the FAA has determined that V-557 is of minimal value to the NAS, and would be removed.

The full descriptions of the proposed amended routes are listed in “The Proposed Amendment” section, below. Where new navigation aid radials are established in a description, both True and Magnetic degrees are shown. Otherwise, only True degrees are stated.

Jet routes are published in paragraph 2004, and VOR Federal airways are published in paragraph 6010, respectively, of FAA Order 7400.9W dated August 8, 2012, and effective September 15, 2012, which is incorporated by reference in 14 CFR 71.1. The jet routes and VOR Federal airways listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as required to preserve the safe and efficient flow of air traffic in the vicinity of Jackson, MS.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, Dated August 8, 2012 and effective September 15, 2012, is amended as follows:

Paragraph 2004 Jet routes.

* * * * *

J-4 [Amended]

From Los Angeles, CA, via INT Los Angeles 083° and Twentynine Palms, CA, 269° radials; Twentynine Palms; Parker, CA; Buckeye, AZ; San Simon, AZ; Newman, TX; Wink, TX; Abilene, TX; Ranger, TX; Belcher, LA; Magnolia, MS; Meridian, MS; Montgomery, AL; INT Montgomery 051° and Colliers, SC, 268° radials; Colliers; Columbia, SC; Florence, SC; to Wilmington, NC.

J-20 [Amended]

From Seattle, WA, via Yakima, WA; Pendleton, OR; Donnelly, ID; Pocatello, ID; Rock Springs, WY; Falcon, CO; Hugo, CO; Lamar, CO; Liberal, KS; INT Liberal 137° and Will Rogers, OK, 284° radials; Will Rogers; Belcher, LA; Magnolia, MS; Meridian, MS; Montgomery, AL; Seminole, FL; INT Seminole 129° and Orlando, FL, 306° radials; to Orlando.

* * * * *

Paragraph 6010 Domestic VOR Federal airways.

V-9 [Amended]

From Leeville, LA; McComb, MS; INT McComb 004°T/001°M and Magnolia, MS 194°T/195°M radials; Magnolia; Sidon, MS; Marvell, AR; Gilmore, AR; Malden, MO; Farmington, MO; St. Louis, MO; Spinner, IL; Pontiac, IL; INT Pontiac, IL 343° and Rockford, IL, 169° radials; Rockford; Janesville, WI; Madison, WI; Oshkosh, WI; Green Bay, WI; Iron Mountain, MI; to Houghton, MI.

V-11 [Amended]

From Brookley, AL; Greene County, MS; INT Greene County 315°T/310°M and Magnolia, MS 133°T/134°M radials; Magnolia; Sidon, MS; Holly Springs, MS; Dyersburg, TN; Cunningham, KY; Pocket City, IN; Brickyard, IN; Marion, IN; Fort Wayne, IN; to INT Fort Wayne 038° and Carleton, MI, 262° radials.

V-18 [Amended]

From Guthrie, TX, via INT Guthrie 156° and Millsap, TX, 274° radials; Millsap; Glen Rose, TX; Cedar Creek, TX; Quitman, TX; Belcher, LA; Monroe, LA; Magnolia, MS; Meridian, MS; Crimson, AL; Vulcan, AL; Talladega, AL; Atlanta, GA; Colliers, SC; Charleston, SC.

V-74 [Amended]

From Garden City, KS; Dodge City, KS; Anthony, KS; Pioneer, OK; Tulsa, OK; Fort Smith, AR; 6 miles, 7 miles wide (4 miles north and 3 miles south of centerline) Little Rock, AR; Pine Bluff, AR; Greenville, MS; Magnolia, MS.

V-245 [Amended]

From Alexandria, LA, via Natchez, MS; Magnolia, MS; Bigbee, MS; INT Bigbee 082° and Crimson, AL, 304° radials; to Crimson.

V-417 [Amended]

From Meridian, MS, via Crimson, AL; Vulcan, AL; Rome, GA; INT Rome 060° and Electric City, SC, 274° radials; INT Electric City 274° and Athens, GA, 340° radials; Athens; Colliers, SC; Allendale, SC; to Charleston, SC.

V-427 [Removed]

V-555 [Amended]

From Picayune, MS; to McComb, MS.

V-557 [Removed]

Issued in Washington, DC, on February 6, 2013.
Gary A. Norek,
Manager, Airspace Policy & ATC Procedures Group.

[FR Doc. 2013-03464 Filed 2-13-13; 8:45 am]

BILLING CODE 4910-13-P